NATIONAL PRISON RAPE ELIMINATION COMMISSION

Notice of Availability for Public Comment on NPREC Draft Standards

AGENCY: National Prison Rape Elimination Commission.

ACTION: Notice.

SUMMARY: The National Prison Rape Elimination Commission announces the release and availability for public comment its Draft Standards for the Prevention, Detection, Response, and Monitoring of Sexual Abuse in Lockups, Juvenile and Community Corrections Facilities.

DATES: The comment period begins June 16, 2008 and closes on August 1, 2008. All comments must be received by 5 p.m. E.S.T. on Friday, August 1, 2008.

ADDRESSES: The preferred comment method is via the Microsoft Word form accessible at the NPREC Web site (http://www.nprec.us). This form can be downloaded and used to submit comments via mail, e-mail and/or fax. E-mailed comment forms should be sent to comments@nprec.us. To submit via mail, fill out the form, then print and mail to: National Prison Rape Elimination Commission, 1440 New York Avenue, NW., Suite 200, Washington, DC, 20005-2111. Faxed forms should be sent to (202) 233-1089.

FOR FURTHER INFORMATION CONTACT: Questions regarding the comment process should be directed to the National Prison Rape Elimination Commission at (202) 233-1090.

SUPPLEMENTARY INFORMATION: The National Prison Rape Elimination Commission (“NPREC” or “the Commission”) is a bipartisan panel created by Congress as part of the Prison Rape Elimination Act of 2003. The Commission is charged with studying federal, state and local government policies and practices related to the prevention, detection, response and monitoring of sexual abuse in correctional and detention facilities in the United States. Consistent with the Act, the Commission's recommendations will be designed to make the prevention of sexual abuse a top priority in America's jails, prisons, lockups, juvenile facilities, and other detention facilities.

Since its creation, the Commission has undertaken a comprehensive legal and factual study of the penological, physical, mental, medical, social and economic impacts of prison sexual abuse on federal, state and local government functions and on the communities and social institutions in which they operate.

Upon completion of its study, the Commission will report its findings, conclusions and recommendations to the President, Congress, the U.S. Attorney General and other federal and state officials. As a key component of its report, the Commission will include the statutorily required zero-tolerance standards.

This notice is to announce the release of Draft Standards for the Prevention, Detection, Response, and Monitoring of Sexual Abuse in Lockups, Juvenile and Community Corrections Facilities, for a public comment period of 45 days. Written comments about these draft standards are invited from the public, as well as affected agencies and organizations.

These drafts can be accessed and downloaded from the NPREC Web site: http://www.nprec.us. Hard copies of the NPREC draft standards are available by mailing a request to the NPREC address, by telephoning (202) 233-1090, or by e-mail at nprec@nprec.us.

Dated: June 11, 2008.
Margaret M. Chiara,
General Counsel, National Prison Rape Elimination Commission.

[FR Doc. E8-13545 Filed 6-16-08; 8:45 am]

BILLING CODE 4410-18-P